DEPARTMENT OF TRANSPORTATION

Federal Aviation Administration

14 CFR Part 97

[Docket No. 31373; Amdt. No. 3959]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPS) and associated Takeoff Minimums and Obstacle Departure procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 25, 2021. The compliance date for each SIAP, associated Takeoff Minimums, and ODP is specified in the amendatory provisions.

The incorporation by reference of certain publications listed in the regulations is approved by the Director of the Federal Register as of June 25, 2021.

ADDRESSES: Availability of matters incorporated by reference in the amendment is as follows:

For Examination

1. U.S. Department of Transportation, Docket Ops-M30. 1200 New Jersey Avenue SE, West Bldg., Ground Floor, Washington, DC, 20590-0001.

2. The FAA Air Traffic Organization Service Area in which the affected airport is located;

3. The office of Aeronautical Information Services, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone (405) 954-4164.

SUPPLEMENTARY INFORMATION: This rule amends 14 CFR part 97 by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA Forms 8260-3, 8260-4, 8260-5, 8260-15A, 8260-15B, when required by an entry on 8260-15A, and 8260-15C.

The large number of SIAPs, Takeoff Minimums and ODPs, their complex nature, and the need for a special format make publication in the Federal Register expensive and impractical. Further, airmen do not use the regulatory text of the SIAPs, Takeoff Minimums or ODPs, but instead refer to their graphic depiction on charts printed by publishers or aeronautical materials. Thus, the advantages of incorporation by reference are realized and publication of the complete description of each SIAP, Takeoff Minimums and ODP listed on FAA form documents is unnecessary. This amendment provides the affected CFR sections and specifies the typed of SIAPS, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPs as identified in the amendatory language for part 97 of this final rule.

The Rule

This amendment to 14 CFR part 97 is effective upon publication of each separate SIAP, Takeoff Minimums and ODP as amended in the transmittal. Some SIAP and Takeoff Minimums and textual ODP amendments may have been issued previously by the FAA in a Flight Data Center (FDC) Notice to Airmen (NOTAM) as an emergency action of immediate flights safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

Lists of Subjects in 14 CFR Part 97

Air Traffic Control, Airports, Incorporation by reference, Navigation (Air).

Issued in Washington, DC, on May 28, 2021.
Wade E.K. Terrell,
Aviation Safety, Flight Standards Service, Manager (A), Flight Technologies and Procedures Division.

Adoption of the Amendment

Accordingly, pursuant to the authority delegated to me, Title 14, Code of Federal Regulations, Part 97 (14 CRF part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 15 July 2021

Orlando, FL, KMCO, ILS OR LOC RWY 17L, ILS RWY 17L (SA CAT I), ILS RWY 17L (CAT II), ILS RWY 17L (CAT III), Amdt 4A

Orlando, FL, KMCO, RNAV (GPS) RWY 17L, Amdt 2A

Effective 12 August 2021

Koyuk, AK, PAKK, RNAV (GPS) RWY 1, Amdt 1A

Pago Pago, AS, Pago Pago Intl, ILS OR LOC RWY 5, Amdt 15

Pago Pago, AS, Pago Pago Intl, NDB-C, Amdt 6C, CANCELLED

Pago Pago, AS, Pago Pago Intl, VOR-D, Amdt 6B, CANCELLED

Pago Pago, AS, Pago Pago Intl, VOR OR TACAN-A, Amdt 4B, CANCELLED

Pago Pago, AS, Pago Pago Intl, VOR OR TACAN-B, Amdt 6B

Mesa, AZ, KFFZ, RNAV (GPS) RWY 4L, Amdt 1D

Mesa, AZ, KFFZ, RNAV (GPS) RWY 4R, Amdt 1F

Mesa, AZ, KFFZ, RNAV (GPS)-B, Amdt 1

Cloverdale, CA, O60, RNAV (GPS) RWY 32. Amdt 1

Napa, CA, KAPC, RNAV (GPS) RWY 6, Amdt 2

Novato, CA, KDVO, RNAV (GPS) RWY 13, Amdt 1

Windsor Locks, CT, KBDL, ILS OR LOC RWY 24, ILS RWY 24 (SA CAT I), ILS RWY 24 (SA CAT II), Amdt 13A

Windsor Locks, CT, KBDL, ILS OR LOC RWY 33, Amdt 10D

Windsor Locks, CT, KBDL, RNAV (GPS) RWY 15, Amdt 4A

Windsor Locks, CT, KBDL, RNAV (GPS) RWY 33, Amdt 3A

Windsor Locks, CT, KBDL, RNAV (GPS) Y RWY 6, Amdt 3A

Windsor Locks, CT, KBDL, RNAV (GPS) Y RWY 24, Amdt 4B

Windsor Locks, CT, Bradley Intl, Takeoff Minimums and Obstacle DP, Amdt 5

Fort Lauderdale, FL, KFLL, ILS OR LOC RWY 28R, Amdt 12

Fort Lauderdale, FL, KFLL, RNAV (GPS) Y RWY 28R, Amdt 5

Fort Lauderdale, FL, KFLL, RNAV (RNP) Z RWY 28R, Amdt 2

Orlando, FL, KISM, VOR/DME-A, Amdt 1, CANCELLED

Atlanta, GA, KATL, ILS OR LOC RWY 27R, Amdt 7

Atlanta, GA, KATL, ILS PRM RWY 27R (CLOSE PARALLEL), Amdt 3

Mc Rae, GA, KMQW, NDB RWY 21, Amdt 10A, CANCELLED

Thomaston, GA, Thomaston-Upson County, Takeoff Minimums and Obstacle DP, Amdt 2A

Dubuque, IA, KDBQ, LOC/DME BC RWY 13, Amdt 5D, CANCELLED

Pocahontas, IA, KPOH, NDB RWY 12, Amdt 5D, CANCELLED

Winterset, IA, 3Y3, RNAV (GPS) RWY 14, Amdt 1A

Winterset, IA, 3Y3, RNAV (GPS) RWY 32, Amdt 1B

Monmouth, IL, C66, RNAV (GPS)-A, Orig

Monmouth, IL, C66, VOR OR GPS-A, Amdt 4, CANCELLED

Savanna, IL, Tri-Township, Takeoff Minimums and Obstacle DP, Orig-A

Huntingburg, IN, KHNB, RNAV (GPS) RWY 9, Amdt 1

Huntingburg, IN, KHNB, RNAV (GPS) RWY 27, Amdt 1

Huntingburg, IN, Huntingburg, Takeoff Minimums and Obstacle DP, Amdt 2

Logansport, IN, Logansport/Cass County, Takeoff Minimums and Obstacle DP, Amdt 2

Norton, KS, KNRN, RNAV (GPS) RWY 34, Amdt 2

Monroe, LA, Monroe Rgnl, ILS OR LOC RWY 22, Amdt 4C

Monroe, LA, Monroe Rgnl, RNAV (GPS) RWY 22, Amdt 2

Monroe, LA, KMLU, RNAV (GPS) RWY 32, Amdt 1

Monroe, LA, Monroe Rgnl, Takeoff Minimums and Obstacle DP, Amdt 6

Monroe, LA, Monroe Rgnl, VOR RWY 22, Amdt 10

Monroe, LA, KMLU, VOR RWY 32, Amdt 5

Shreveport, LA, KSHV, ILS OR LOC RWY 14, ILS RWY 14 (CAT II), Amdt 26B

Shreveport, LA, KSHV, ILS OR LOC RWY 32, Amdt 6B

Shreveport, LA, KSHV, RNAV (GPS) RWY 14, Amdt 2C

Shreveport, LA, KSHV, RNAV (GPS) RWY 24, Amdt 2C

Shreveport, LA, KSHV, RNAV (GPS) RWY 32, Amdt 2B

Orange, MA, KORE, VOR-A, Amdt 8

Menominee, MI, KMNM, RNAV (GPS) RWY 32, Amdt 1D

Mountain View, MO, KMNF, RNAV (GPS) RWY 28, Orig-D

Rolla/Vichy, MO, KVIH, RNAV (GPS) RWY 4, Orig-B

Washington, MO, KFYG, RNAV (GPS) RWY 33, Amdt 2A

Burlington, NC, KBUY, ILS Z OR LOC Z RWY 6, Amdt 2C

Ogallala, NE, KOGA, VOR RWY 26, Amdt 1E

Ely, NV, KELY, RNAV (GPS) RWY 18, Amdt 1B

Ely, NV, KELY, VOR-C, Amdt 2A

Farmingdale, NY, KFRG, NDB RWY 1, Amdt 14D, CANCELLED

Farmingdale, NY, KFRG, RNAV (GPS) RWY 1, Amdt 3

Farmingdale, NY, KFRG, RNAV (GPS) RWY 19, Amdt 3

Farmingdale, NY, KFRG, RNAV (GPS) RWY 32, Amdt 1

Johnstown, NY, NY0, NDB RWY 10, Amdt 2, CANCELLED

Johnstown, NY, NY0, NDB RWY 28, Amdt 2, CANCELLED

Rome, NY, KRME, ILS OR LOC RWY 33, Amdt 3

Syracuse, NY, KSYR, VOR RWY 15, Amdt 23D

Cleveland, OH, KBKL, RNAV (GPS) RWY 24R, Amdt 1

Wilmington, OH, KILN, RNAV (GPS) RWY 22R, Orig-D

Pauls Valley, OK, Pauls Valley Muni, Takeoff Minimums and Obstacle DP, Orig-A

Florence, SC, Florence Rgnl, Takeoff Minimums and Obstacle DP, Amdt 5A

Knoxville, TN, KTYS, ILS OR LOC RWY 5L, Amdt 10

Knoxville, TN, KTYS, ILS OR LOC RWY 23R, ILS RWY 23R (SA CAT I), ILS RWY 23R (CAT II), Amdt 14

Knoxville, TN, KTYS, RADAR-1, Amdt 23

Knoxville, TN, KTYS, RNAV (GPS) RWY 5L, Amdt 3

Knoxville, TN, KTYS, RNAV (GPS) RWY 23R, Amdt 3

Knoxville, TN, Mc Ghee Tyson, Takeoff Minimums and Obstacle DP, Amdt 9

Knoxville, TN, KTYS, VOR RWY 23R, Amdt 8

Austin, TX, KHYI, ILS OR LOC RWY 13, Amdt 6D

Austin, TX, KHYI, NDB RWY 13, Amdt 5C

Austin, TX, KHYI, RNAV (GPS) RWY 13, Amdt 2C

Houston, TX, KIAH, ILS OR LOC RWY 27, ILS RWY 27 (SA CAT I), ILS RWY 27 (CAT II), ILS RWY 27 (CAT III), Amdt 11D

Midland, TX, KMDD, RNAV (GPS) RWY 34, Orig-B

Palestine, TX, KPSN, NDB RWY 36, Amdt 8A, CANCELLED

Rockwall, TX, F46, NDB-A, Orig-C, CANCELLED

Juneau, WI, Dodge County, Takeoff Minimums and Obstacle DP, Orig-A

Land O'Lakes, WI, KLNL, RNAV (GPS) RWY 32, Orig-D

[FR Doc. 2021-13469 Filed 6-24-21; 8:45 am]

BILLING CODE 4910-13-P